DEPARTMENT OF COMMERCE

National Oceanic and Atmospheric Administration

50 CFR Part 648

[Docket No. 100201058-0260-02]

RIN 0648-XA333

Fisheries of the Northeastern United States; Spiny Dogfish Fishery; Annual Quota Harvested

AGENCY: National Marine Fisheries Service (NMFS), National Oceanic and Atmospheric Administration (NOAA), Commerce.

ACTION: Temporary rule; closure of spiny dogfish fishery.

SUMMARY: NMFS announces that the spiny dogfish commercial quota available to the coastal states from Maine through Florida for the 2010 fishing year (FY), May 1, 2010-April 30, 2011, has been harvested. Therefore, effective 0001 hours, April 1, 2011, federally permitted spiny dogfish vessels may not fish for, possess, transfer, or land spiny dogfish until May 1, 2011, when the quota for FY 2011 becomes available. Regulations governing the spiny dogfish fishery require publication of this notification to advise the coastal states from Maine through Florida that the quota has been harvested and to advise vessel permit holders and dealer permit holders that no Federal commercial quota is available for landing spiny dogfish in these states. This action is necessary to prevent the fishery from exceeding its annual quota and to allow for effective management of this stock.

DATES: The spiny dogfish fishery is closed effective 0001 hr local time, April 1, 2011, through 2400 hr local time April 30, 2011. Effective April 1, 2011, federally permitted dealers are also advised that they may not purchase spiny dogfish from federally permitted spiny dogfish vessels.

FOR FURTHER INFORMATION CONTACT: Lindsey Feldman at (978) 675-2179, or Lindsey.Feldman@noaa.gov.

SUPPLEMENTARY INFORMATION: Regulations governing the spiny dogfish fishery are found at 50 CFR part 648. The regulations require annual specification of a commercial quota, which is allocated into two quota periods based upon percentages specified in the fishery management plan. The fishery is managed from Maine through Florida, as described in § 648.230.

The total commercial quota for spiny dogfish for FY 2010 is 15 million lb (6,803.89 mt) (75 FR 36012, June 24, 2010). The commercial quota is allocated into two periods (May 1 through October 31, and November 1 through April 30). Vessel possession limits were set at 3,000 lb (1.36 mt) for both Quota Periods 1 and 2. Quota Period 1 was allocated 8,685,000 lb (3,943.45 mt), and Quota Period 2 was allocated 6,315,000 lb (2,864.44 mt) of the commercial quota. The total quota cannot be exceeded, so landings in excess of the amount allocated to Period 1 have the effect of reducing the quota available to the fishery during Period 2.

The Administrator, Northeast Region, NMFS (Regional Administrator) monitors the commercial spiny dogfish quota for each quota period and, based upon dealer reports, state data, and other available information, determines when the total commercial quota will be harvested. NMFS is required to publish a notification in the Federal Register advising and notifying commercial vessels and dealer permit holders that, effective upon a specific date, the Federal spiny dogfish commercial quota has been harvested and no Federal commercial quota is available for landing spiny dogfish for the remainder of that quota period.

Section 648.4(b) provides that Federal spiny dogfish permit holders agree, as a condition of their permit, not to land spiny dogfish in any state after NMFS has published notification in the Federal Register that the commercial quota has been harvested and that no commercial quota for the spiny dogfish fishery is available. Therefore, effective 0001 hr local time, April 1, 2011, landings of spiny dogfish in coastal states from Maine through Florida by vessels holding commercial Federal fisheries permits will be prohibited through April 30, 2011, 2400 hr local time. The FY 2011 quota will be available for commercial spiny dogfish harvest on May 1, 2011. Effective April 1, 2011, federally permitted dealers are also advised that they may not purchase spiny dogfish from vessels issued Federal spiny dogfish permits that land in coastal states from Maine through Florida.

Classification

This action is required by 50 CFR part 648 and is exempt from review under Executive Order 12866.

The Assistant Administrator for Fisheries, NOAA (AA), finds good cause pursuant to 5 U.S.C. 553(b)(B) to waive prior notice and the opportunity for public comment because it would be contrary to the public interest. The regulations at § 648.231 require such action to ensure that spiny dogfish vessels do not exceed the FY 2010 quota. Data indicating the spiny dogfish fleet will have landed the FY 2010 quota have only recently become available. If implementation of this closure was delayed to solicit prior public comment, the FY 2010 quota would be exceeded, thereby undermining the conservation objectives of the FMP. The AA further finds, pursuant to 5 U.S.C. 553(d)(3), good cause to waive the 30-day delayed effectiveness period for the reasons stated above.

Authority: 16 U.S.C. 1801 et seq.

Dated: March 28, 2011.
Emily H. Menashes,
Acting Director, Office of Sustainable Fisheries, National Marine Fisheries Service.

[FR Doc. 2011-7616 Filed 3-28-11; 4:15 pm]

BILLING CODE 3510-22-P